GENERAL SERVICES ADMINISTRATION

[OMB Control No. 3090-00XX; Docket No. 2020-0001; Sequence No. 2]

Information Collection; Technology Transformation Services—Candidate Experience Surveys

AGENCY: Technology Transformation Services (TTS), Federal Acquisition Service (FAS), General Services Administration (GSA).

ACTION: Notice of request for comments regarding a new information collection.

SUMMARY: Under the provisions of the Paperwork Reduction Act, the Regulatory Secretariat Division will be submitting to the Office of Management and Budget (OMB) a request to review and approve a new information collection requirement regarding sending candidate surveys to all applicants who apply to jobs within the Technology Transformation Services (TTS).

DATES: Submit comments on or before July 28, 2020.

ADDRESSES: Submit comments identified by Information Collection 3090-00xx; Technology Transformation Services—Candidate Experience Surveys, by any of the following methods:

Regulations.gov: http://www.regulations.gov. Submit comments via the Federal eRulemaking portal by searching for the OMB Control number 3090-00xx. Select the link “Comment Now” that corresponds with “Information Collection 3090-00xx; Technology Transformation Services—Candidate Experience Surveys”. Follow the instructions on the screen. Please include your name, company name (if any), and “Information Collection 3090-00xx; Technology Transformation Services—Candidate Experience Surveys” on your attached document. If your comment cannot be submitted using https://www.regulations.gov, call or email the points of contact in the FOR FURTHER INFORMATION CONTACT section of this document for alternate instructions.

Instructions: Please submit comments only and cite Information Collection 3090-00xx; subject, in all correspondence related to this collection. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Requests for additional information should be directed to Jennifer Moran, Technology Transformation Services, via email to jennifer.moran@gsa.gov, or via phone 202-213-1262.

SUPPLEMENTARY INFORMATION:

A. Purpose

The goal of TTS is to modernize the way the government uses technology by applying modern methodologies and technologies to improve the public's experience with government. In order to accomplish this, we need to be able to attract top technical talent from across the country. This often means competing for talent with the private sector, where companies can often offer more robust compensation and benefits.

In order to remain competitive, it is vital that we provide an exceptional candidate experience and maintain a strong brand reputation. Some of the ways we strive to do this is through providing clear job descriptions, thorough interview preparation and personalized candidate experience throughout the process. In doing so, we are better able to recruit more candidates into doing a tour of duty in the government. Candidate Surveys are a way for us to continuously measure how we are doing and make any necessary improvements to our hiring process so we can continue to hire and attract the top talent we need at the rate we need them in this demanding market.

By consistently asking applicants and candidates for their feedback and reviewing the survey results, we can pinpoint what areas in our process need to be modified, changed, removed, and/or added. Surveys allow respondents to remain anonymous and will be sent out three times during the hiring process:

• After a candidate applies to a role. Data at this stage will help us understand if our job descriptions provide a clear understanding of the roles and responsibilities that we are hiring for. It will also help us understand if our website has thorough enough information about the overall hiring process or if there are more resources that we can be providing.

• After a candidate interviews. Data at this stage will help us understand if we are properly preparing candidates and interviewers for interviews.

• When the candidate is Selected or Not Selected after the Interview. Data at this stage will help us understand what the candidate's experience was with their TTS recruiter overall and if there is anything they think we can improve upon.

B. Annual Reporting Burden

Respondents: 7,400.

Responses per Respondent: 1-3.

Total annual responses: 1,110.

Hours per Response: 5 minutes per survey.

Total Burden Hours: 15 minutes for candidates who complete all 3 surveys.

C. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW, Washington, DC 20405. ATTN: Information Collection 3090-00xx; Technology Transformation Services—Candidate Experience Surveys. Please cite OMB Control No. 3090-00xx, Technology Transformation Services—Candidate Experience Surveys, in all correspondence.

Beth Anne Killoran,
Deputy Chief Information Officer.

[FR Doc. 2020-11577 Filed 5-28-20; 8:45 am]

BILLING CODE 6820-34-P